DEPARTMENT OF ENERGY

Federal Energy Regulatory Commission

[Docket No. CP03-38-001]

Natural Gas Pipeline Company of America; Notice of Compliance Filing

March 12, 2003.

Take notice that on March 5, 2003, Natural Gas Pipeline Company of America (Natural) tendered for filing to be part of its FERC Gas Tariff, Sixth Revised Volume No. 1 and Second Revised Volume No. 2, certain tariff sheets to be effective March 5, 2003.

Natural states that the purpose of the filing is to cancel Natural's Rate Schedule X-85, which provided for an exchange service between Natural and Northern Natural Gas Company (Northern) pursuant to a gas exchange agreement between Natural and Northern dated May 5, 1980.

Natural states that the subject tariff sheets are being filing in compliance with Ordering Paragraph (A) of the Commission's order issued February 26, 2003 in Docket No. CP03-38-000. Such order authorized Natural to abandon its exchange service with Northern authorized in Docket No. CP81-64-000.

Natural states that copies of the filing have been mailed to all parties set out on the Commission's official service list in Docket No. CP03-38-000.

Any person desiring to protest said filing should file a protest with the Federal Energy Regulatory Commission, 888 First Street, NE., Washington, DC 20426, in accordance with section 385.211 of the Commission's Rules and Regulations. All such protests must be filed in accordance with Section 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: March 17, 2003.

Magalie R. Salas,
Secretary.

[FR Doc. 03-6523 Filed 3-18-03; 8:45 am]

BILLING CODE 6717-01-P